DEPARTMENT OF ENERGY

Office of Arms Control and Nonproliferation; Proposed Subsequent Arrangement

AGENCY: Department of Energy.

ACTION: Subsequent arrangement.

SUMMARY: This notice is issued under the authority of section 131 of the Atomic Energy Act of 1954, as amended (42 U.S.C. 2160). The Department is providing notice of a proposed “subsequent arrangement“ under the Agreement for Cooperation Between the Government of the United States of America and the Swiss Federal Council Concerning Peaceful Uses of Nuclear Energy.

This subsequent arrangement concerns the addition of Argentina, Brazil, Bulgaria, Kazakhstan, Romania, South Africa and Ukraine to the list of countries in Annex I to the Agreed Minute to the Agreement for Cooperation. As stated in paragraph B of the Agreed Minute, countries on the list are eligible to receive retransfers of source material, uranium other than high enriched uranium, moderator material and equipment transferred under Article 7 of the Agreement. The United States has brought into force new Agreements for Cooperation in the Peaceful Uses of Nuclear Energy, under the authority of section 123 of the Atomic Energy Act of 1954, as amended (42 U.S.C. 2160), with Argentina, Brazil, Bulgaria, Kazahstan, Romania, South Africa and Ukraine. These seven countries have also made effective non-proliferation commitments. Accordingly, they are eligible third countries to which retransfers may be made.

In accordance with section 131 of the Atomic Energy Act of 1954, as amended, we have determined that this subsequent arrangement will not be inimical to the common defense and security.

This subsequent arrangement will take effect no sooner than fifteen days after the date of publication of this notice.

Dated: May 21, 2001.
Trisha Dedik,
Director, International Policy and Analysis for Arms Control and Nonproliferation, Office of Defense Nuclear Nonproliferation.

[FR Doc. 01-13391 Filed 5-25-01; 8:45 am]

BILLING CODE 6450-01-P